DEPARTMENT OF COMMERCE

International Trade Administration

[A-475-843]

Prestressed Concrete Steel Wire Strand From Italy: Final Affirmative Determination of Sales at Less Than Fair Value, and Final Negative Determination of Critical Circumstances

AGENCY: Enforcement and Compliance, International Trade Administration, Department of Commerce.

SUMMARY: The Department of Commerce (Commerce) determines that prestressed concrete steel wire strand (PC strand) from Italy is being, or is likely to be, sold in the United States at less than fair value (LTFV). The final weighted-average dumping margins are listed below in the section entitled “Final Determination.”

DATES: Applicable April 9, 2021.

FOR FURTHER INFORMATION CONTACT: Stephanie Berger, AD/CVD Operations, Office III, Enforcement and Compliance, International Trade Administration, U.S. Department of Commerce, 1401 Constitution Avenue NW, Washington, DC 20230; telephone: (202) 482-2483.

SUPPLEMENTARY INFORMATION:

Background

On November 19, 2020, Commerce published the Preliminary Determination in this investigation, and invited interested parties to comment on our findings.¹ The petitioners in this investigation are Insteel Wire Products, Sumiden Wire Products Corporation, and Wire Mesh Corp. (the petitioners). The mandatory respondents subject to this investigation are CB Trafilati Acciai S.p.A. (CB) and WBO Italcables Societa Cooperativa (WBO). CB informed Commerce that it would not participate as a mandatory respondent in this investigation.² A summary of the events that occurred since Commerce published the Preliminary Determination, as well as a full discussion of the issues raised by parties for this final determination, may be found in the Issues and Decision Memorandum.³

¹ See Prestressed Concrete Steel Wire Strand from Italy: Preliminary Affirmative Determination of Sales at Less Than Fair Value, Preliminary Negative Determination of Critical Circumstances, Postponement of Final Determination, and Extension of Provisional Measures, 85 FR 73679 (November 19, 2020) (Preliminary Determination), and accompanying Preliminary Decision Memorandum (PDM).

² See Memorandum, “Issues and Decision Memorandum for the Final Affirmative Determination in the Less-Than-Fair-Value Investigation of Prestressed Concrete Steel Wire Strand from Italy,” dated concurrently with, and hereby adopted by, this notice (Issues and Decision Memorandum).

³ See Issues and Decision Memorandum.

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://enforcement.trade.gov/frn/index.html.

Period of Investigation

The period of investigation (POI) is April 1, 2019, through March 31, 2020.

Scope of the Investigation

The product covered by this investigation is PC strand from Italy. For a complete description of the scope of this investigation, see Appendix I.

Analysis of Comments Received

All issues raised in the case briefs and rebuttal briefs submitted by interested parties in this proceeding are discussed in the Issues and Decision Memorandum. A list of the issues raised by parties and responded to by Commerce in the Issues and Decision Memorandum is attached to this notice as Appendix II.

Verification

Commerce was unable to conduct on-site verification of the information relied upon in making its final determination in this investigation as provided for in section 782(i) of the Tariff Act of 1930, as amended (the Act). Accordingly, we took additional steps in lieu of an on-site verification and requested additional documentation and information.⁴

⁴ See Commerce's Letter, “WBO Italcables Societa' Cooperative Questionnaire in Lieu of Verification,” dated December 9, 2020; see also WBO's Letter, “Questionnaire in Lieu of Verification Response,” dated December 17, 2020 (ILOV Response).

Changes Since the Preliminary Determination

Based on our analysis of the ILOV Response and the comments received, we made one change to the margin calculation for WBO since the Preliminary Determination. For a discussion of this change, see the Issues and Decision Memorandum.

Final Negative Determination of Critical Circumstances

Consistent with the Preliminary Determination,⁵ Commerce continues to determine that critical circumstances do not exist within the meaning of section 735(a)(3) of the Act.

⁵ See Preliminary Determination PDM at 8-10

Use of Adverse Facts Available

The mandatory respondent CB withdrew from participation in this investigation.⁶ Therefore, in the Preliminary Determination, pursuant to sections 776(a) and 776(b) of the Act, we assigned to CB an estimated weighted-average dumping margin based on adverse facts available (AFA). No parties filed comments concerning the Preliminary Determination with respect to CB, and there is no new information on the record that would cause us to revisit the Preliminary Determination. Accordingly, we continue to find that the application of AFA pursuant to sections 776(a) and (b) of the Act is warranted with respect to CB. Consistent with the Preliminary Determination, Commerce has assigned to CB the highest individual margin calculated for WBO, which is 19.26 percent. Because this rate is not secondary information, but rather is based on information obtained in the course of the investigation, Commerce need not corroborate this rate pursuant to section 776(c) of the Act.⁷ For further information, see the Preliminary Determination PDM.

⁶ Id. at 4-7.

⁷ See Preliminary Determination PDM at 6-7.

All-Others Rate

Section 735(c)(5)(A) of the Act provides that the estimated weighted-average dumping margin for all other producers and exporters not individually investigated shall be equal to the weighted average of the estimated weighted-average dumping margins established for individually investigated exporters and producers, excluding any margins that are zero, de minimis, or any margins determined entirely under section 776 of the Act. In this investigation, Commerce has assigned a rate based entirely on facts available to CB. Therefore, the only rate that is not zero, de minimis or based entirely on facts otherwise available is the rate calculated for WBO. Consequently, the rate calculated for WBO is also assigned as the rate for all other producers and exporters.

Final Determination

The final estimated weighted-average dumping margins are as follows:

Exporter/producer | Estimated weighted- average dumping margin (percent)
WBO Italcables Societa Cooperativa | 3.59
CB Trafilati Acciai S.p.A | * 19.26
All Others | 3.59
* (AFA).

Disclosure

We intend to disclose to interested parties the calculations and analysis performed in this final determination within five days of any public announcement or, if there is no public announcement, within five days of the date of the publication of this notice to parties in this proceeding in accordance with 19 CFR 351.224(b).

Continuation of Suspension of Liquidation

In accordance with section 735(c)(1)(B) of the Act, Commerce will instruct U.S. Customs and Border Protection (CBP) to continue to suspend liquidation of all appropriate entries of subject merchandise, as described in Appendix I of this notice, entered, or withdrawn from warehouse, for consumption on or after November 19, 2020, the date of publication of the Preliminary Determination of this investigation in the Federal Register.

Pursuant to section 735(c)(1)(B)(ii) of the Act and 19 CFR 351.210(d), upon publication of this notice, Commerce will instruct CBP to require a cash deposit equal to the estimated weighted-average dumping margin or the estimated all-others rate, as follows: (1) The cash deposit rate for the respondents listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin. These suspension of-liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of PC strand no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, entered, or withdrawn from warehouse, for consumption on or after the effective date of the suspension of liquidation.

Notification Regarding Administrative Protective Order

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: April 5, 2021.
Christian Marsh,
Acting Assistant Secretary for Enforcement and Compliance.

Appendix I

Scope of the Investigation

The merchandise covered by this investigation is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

Appendix II

List of Topics Discussed in the Issues and Decision Memorandum

I. Summary

II. Background

III. Scope of the Investigation

IV. Changes Since the Preliminary Determination

V. Discussion of the Issues

Comment 1: Whether Home Market Sales with Missing Payment Dates Should Be Disregarded

VI. Recommendation

[FR Doc. 2021-07366 Filed 4-8-21; 8:45 am]

BILLING CODE 3510-DS-P